Proclamation 10593 of May 31, 2023

National Immigrant Heritage Month, 2023

By the President of the United States of America

A Proclamation

America is more than a place; it is an idea. It is the idea that everyone is created equal and deserves to be treated equally throughout their lives and that everyone should have a fair shot and an equal chance to get ahead. That is what has drawn people to our shores for centuries. It is what makes us who we are. And that very idea of America has been advanced by immigrants from every part of the world—my ancestors and yours. Their dreams built America, and during National Immigrant Heritage Month, we celebrate their courage.

The First Lady and I are proud descendants of immigrants—the Giacoppas, from the northeast corner of Sicily in Italy, and the Finnegans of County Louth and the Blewitts of County Mayo in Ireland. Vice President Harris was born in Oakland, California, to parents who emigrated from India and Jamaica. Like so many who still come here seeking a better future, our parents and great-grandparents could not be sure what life would bring. But they had faith that, for their children and grandchildren, anything would be possible in America. And they were right.

Many families also came to America in search of a better future and the promise of the American Dream, and each wave of newcomers brings energy and new ideas to move our Nation forward. Today, one third of our doctors and nearly three quarters of our farmworkers are immigrants, and so many more are essential workers, first responders, and military service members. Immigrants own approximately one in five businesses, create millions of jobs, pay hundreds of billions in taxes, and spend even more on American goods. Almost half of all Fortune 500 companies were started by immigrants or their kids. Immigrants help strengthen our diplomatic and people-to-people ties around the world. It's simple: immigrants keep our Nation strong and our economy growing.

That truth used to be something most of us agreed on. President Ronald Reagan proudly signed a law giving an opportunity to 2.7 million undocumented people to seek permanent residence. President George W. Bush pushed hard for comprehensive immigration reform. On day one of my Presidency, I sent the Congress my plan that includes a pathway to citizenship for Dreamers, people with temporary status, farmworkers, and essential workers; smarter border solutions, including more equipment and modern infrastructure; and provisions to clear court backlogs, speed up processing, and protect families. Let us come together again in a bipartisan way to fix our broken immigration system for good.

Until the Congress acts, my Administration will keep using every tool we have to make the system more orderly, safe, and humane. We have announced new pathways for nationals of Cuba, Nicaragua, Venezuela, Haiti, and other countries in the region to come here lawfully. And in May, we joined with partners across the Western Hemisphere to launch a plan to open new centers where people can receive help with applying to come to the United States, rather than making the dangerous trek at the mercy of criminal organizations and smugglers. At home, we have expanded whistleblower protections for undocumented workers so they too can call out wage theft or unsafe working conditions, improving things for everyone. And we have strengthened the Deferred Action for Childhood Arrivals (DACA) program that for more than 10 years has allowed 800,000 Dreamers to live and work freely in the only country they know as home. In addition, we have recently proposed a plan to expand DACA recipients' access to health care through the Affordable Care Act and Medicaid.

Immigration has always been essential to America, and this month, we reflect on the strength and spirit of immigrants that have been passed down through families and infused in our Nation. This spring, I had the chance to travel back to Ireland, to walk the ground my ancestors walked, and to celebrate the bonds that connect us still. Over the years, stories of that place have become part of my soul. I stood beside a cathedral built of bricks that my great-great-great-grandfather supplied. I imagined his son bringing his family across the ocean during the famine of 1850, leaving all they had known for hope on a distant shore. I remembered stories of his son—my great-grandfather—who kept those roots alive in Scranton, helping to found the Irish American Association, chairing the St. Patrick's Day Parade, and passing that pride on to his granddaughter—my mom. It is a pride that speaks to the history and the values that bind us: immigrant values of hard work, dignity, and respect that I have tried to pass on to my own children and grandchildren.

Most Americans have their own version of that same story: ancestors who overcame incredible odds to build new lives in this promised land and contribute to the fabric of our Nation. And we see those same values alive at the White House every time we celebrate our proud immigrant communities, whose holidays and rich cultures give new life to our Nation—including Diwali, the Hindu festival of lights; Eid, the feast ending Ramadan; Greek Independence Day, a celebration of freedom and democracy; and the Lunar New Year, a festivity committing to new beginnings. We see that spirit of hope at every naturalization ceremony, when we celebrate the journey completed by millions of people whose courage and commitment have earned them a title that is equal to that of President in our democracy—the title of “citizen.” This month, we honor our ancestors by working to keep the torch of liberty lit and held high.

NOW, THEREFORE, I, JOSEPH R. BIDEN JR., President of the United States of America, by virtue of the authority vested in me by the Constitution and the laws of the United States, do hereby proclaim June 2023 as National Immigrant Heritage Month. I call upon the people of the United States to learn more about the history of our Nation's diverse and varied immigrant communities and to observe this month with appropriate programming and activities that remind us of the values of diversity, equity, and inclusion.

IN WITNESS WHEREOF, I have hereunto set my hand this thirty-first day of May, in the year of our Lord two thousand twenty-three, and of the Independence of the United States of America the two hundred and forty-seventh.

[FR Doc. 2023-12061

Filed 6-2-23; 8:45 am]

Billing code 3395-F3-P